DEPARTMENT OF HEALTH AND HUMAN SERVICES

Notice of Meeting of the Advisory Committee on Blood Safety and Availability

AGENCY: Office of the Secretary, HHS.

ACTION: Notice of September 5, 2002, meeting.

SUMMARY: The Advisory Committee on Blood Safety and Availability will meet on Thursday September 5, 2002 from 8 a.m. to 5 p.m. The meeting will take place at the Wyndham Washington Hotel, 1400 M Street, NW., Washington, DC 20001. The meeting will be entirely open to the public. The agenda will be announced at a future date. Public comment will be limited to five minutes per speaker. Those who wish to have printed material distributed to Advisory Committee members should submit thirty (30) copies to the Executive Secretary prior to close of business August 19, 2002.

FOR FURTHER INFORMATION CONTACT: Stephen D. Nightingale, MD, Executive Secretary, Advisory Committee on Blood Safety and Availability, Department of Health and Human Services, Office of Public Health and Science, 200 Independence Ave., SW., Room 736-E, Washington, DC 20201. Phone (202) 690-5558, FAX (202) 260-9372, e-mail StephenDNightingale@osophs.dhhs.gov.

Dated: July 9, 2002.
Eve E. Slater,
Assistant Secretary for Health.

[FR Doc. 02-17677 Filed 7-12-02; 8:45 am]

BILLING CODE 4150-28-M